DEPARTMENT OF VETERANS AFFAIRS

Veterans' Disability Benefits Commission; Notice of Meeting

The Department of Veterans Affairs (VA) gives notice under Public Law 92-463 (Federal Advisory Committee Act) that the Veterans' Disability Benefits Commission has scheduled a meeting for November 16, 2006, at the Embassy Suites Hotel, 900 10th Street, NW., Washington, DC. The meeting will begin at 8:30 a.m. and end at 4:15 p.m. The meeting is open to the public.

The purpose of the Commission is to carry out a study of the benefits under the laws of the United States that are provided to compensate and assist veterans and their survivors for disabilities and deaths attributable to military service.

The agenda for the meeting will include updates on the progress of the studies being conducted by the Center for Naval Analyses (CNA) and the Institute of Medicine (IOM). The Commission will receive initial presentations on several draft Issue Papers. The Commission will also review and approve an Issue Paper outlining the Commission's position to recommend lump sum payments be removed from consideration as an option for compensating veterans with disabilities.

Interested persons may attend and present oral statements to the Commission, November 16. Oral presentations will be limited to five minutes or less, depending on the number of participants. Interested parties may also provide written comments for review by the Commission prior to the meeting or at any time, by e-mail to veterans@vetscommission.com or by mail to Mr. Ray Wilburn, Executive Director, Veterans' Disability Benefits Commission, 1101 Pennsylvania Avenue, NW., 5th Floor, Washington, DC 20004.

Dated: October 25, 2006.
By Direction of the Secretary.
E. Philip Riggin,
Committee Management Officer.

[FR Doc. 06-8983 Filed 10-31-06; 8:45 am]

BILLING CODE 8320-01-M